DEPARTMENT OF ENERGY

[OE Docket No. PP-82-6]

Application To Amend Presidential Permit; Vermont Electric Power Company, Inc., as Agent for the Joint Owners in the Highgate Interconnection Facilities

AGENCY: Office of Electricity, DOE.

ACTION: Notice of application.

SUMMARY: Vermont Electric Power Company, Inc. (“VELCO”), as operating-and-management agent for the Joint Owners of the Highgate Interconnection Facilities (the “Highgate Joint Owners”) filed an application to amend PP-82, issued on May 14, 1985 and amended on March 1, 1994, September 3, 2003, February 7, 2005, May 3, 2016 and January 8, 2018. VELCO requested that DOE reflect changes in ownership of the Highgate Interconnection Facilities and transfer the ownership interests in the Highgate Interconnection Facilities from two of the Highgate Joint Owners to the third Highgate Joint Owner.

DATES: Comments or motions to intervene must be submitted on or before October 12, 2018.

ADDRESSES: Comments or motions to intervene should be addressed as follows: Office of Electricity (OE-20), U.S. Department of Energy, 1000 Independence Avenue SW, Washington, DC 20585.

FOR FURTHER INFORMATION CONTACT: Christopher Lawrence (Program Office) at 202-586-5260, or by email to Christopher.Lawrence@hq.doe.gov; Christopher Drake (Program Attorney) at 202-586-2919, or by email to Christopher.Drake@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On August 13, 2018, VELCO filed an application with DOE, as required by 10 CFR 205.322, requesting that DOE amend PP-82-5 to reflect a change in names and ownership interests and authorize, under Article 10 of PP-82-5, the transfer of the Highgate Interconnection Facilities so that Vermont Transco LLC (Transco) will acquire 100% of the ownership interest in the facility from the two other Highgate Joint Owners: the Town of Stowe Electric Department and the City of Burlington Electric Department. Transco would then become sole owner of the Highgate Interconnection Facilities.

The international transmission facilities authorized by Presidential Permit No. PP-82, as amended, include a back-to-back converter station in Highgate, Vermont, and a 345 kilovolt (kV) transmission line extending approximately 7.5 miles from the converter station to the United States-Canada border in Franklin, Vermont. VELCO does not propose to make any physical changes to the Highgate Interconnection Facilities, but rather asks the Department to amend the permit to reflect the change in ownership of the Highgate Transmission Facility.

Procedural Matters: Any person may comment on this application by filing such comment at the address provided above. Any person seeking to become a party to this proceeding must file a motion to intervene at the address provided above in accordance with Rule 214 of the Federal Energy Regulatory Commission's Rules of Practice and Procedure (18 CFR 385.214). Two copies of each comment or motion to intervene should be filed with DOE on or before the date listed above.

Additional copies of such motions to intervene also should be filed directly with Mr. Colin Owyang, Vice President, General Counsel & Corporate Secretary, Vermont Electric Power Company, Inc., 366 Pinnacle Ridge Road, Rutland, VT 05701, cowyang@velco.com AND Margaret H. Claybour, Esq., Van Ness Feldman, LLP, 1050 Thomas Jefferson Street NW, Suite 700, Washington, DC 20007-3877, mhc@vnf.com.

Before a Presidential permit may be granted or amended, DOE must determine that the proposed action will not adversely impact the reliability of the U.S. electric power supply system. In addition, DOE will consider the environmental impacts of the proposed action (i.e., granting the Presidential permit or amendment, with any conditions and limitations, or denying the permit) according to the standards of the National Environmental Policy Act of 1969, as amended. DOE also must obtain the favorable recommendation of the Secretary of State and the Secretary of Defense before taking final action on a Presidential permit application.

Copies of this application will be made available, upon request, for public inspection and copying at the address provided above. In addition, the application may be reviewed or downloaded electronically at http://energy.gov/oe/services/electricity-policy-coordination-and-implementation/international-electricity-regulatio-2. Upon reaching the home page, select “Pending Applications.”

Signed in Washington, DC, on August 31, 2018.
Christopher A. Lawrence,
Program and Management Analyst, Office of Electricity.

[FR Doc. 2018-19842 Filed 9-11-18; 8:45 am]

BILLING CODE 6450-01-P